DEPARTMENT OF COMMERCE

National Oceanic and Atmospheric Administration

50 CFR Part 622

[Docket No. 250813-0141]

RIN 0648-BN30

Fisheries of the Caribbean, Gulf of Mexico, and South Atlantic; Snapper-Grouper Fishery of the South Atlantic; Amendment 55

AGENCY: National Marine Fisheries Service (NMFS), National Oceanic and Atmospheric Administration (NOAA), Commerce.

ACTION: Proposed rule; request for comments.

SUMMARY: NMFS proposes regulations to implement Amendment 55 to the Fishery Management Plan for the Snapper-Grouper Fishery of the South Atlantic (FMP), as prepared and submitted by the South Atlantic Fishery Management Council (Council). This proposed rule would remove yellowmouth grouper from the other South Atlantic shallow water grouper (other SASWG) complex and establish a new scamp and yellowmouth grouper complex. This proposed rule would establish catch levels, sector management measures, and accountability measures (AM) for the new scamp and yellowmouth grouper complex and establish catch levels for the revised other SASWG complex. In addition, Amendment 55 would establish a rebuilding plan, sector allocations, and status determination criteria (SDC) for the scamp and yellowmouth grouper complex. The purpose of this proposed rule and Amendment 55 is to rebuild the scamp and yellowmouth grouper stock, and achieve optimum yield (OY) while minimizing, to the extent practicable, adverse social and economic effects.

DATES: Written comments must be received on or before September 24, 2025.

ADDRESSES: This proposed rule, including a plain language summary pursuant to 5 U.S.C. 553(b)(4), is available at: https://www.regulations.gov/docket/NOAA-NMFS-2025-0132.

You may submit comments on the proposed rule, identified by “NOAA-NMFS-2024-0132,” by either of the following methods:

• Electronic Submission: Submit all electronic public comments via the Federal e-Rulemaking Portal. Go to https://www.regulations.gov and enter “NOAA-NMFS-2024-0132”, in the Search box. Click the “Comment” icon, complete the required fields, and enter or attach your comments.

• Mail: Submit written comments to Nikhil Mehta, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 55, which includes a fishery impact statement and a regulatory impact review, may be obtained from the Southeast Regional Office website at https://www.fisheries.noaa.gov/action/amendment-55-establish-new-scamp-and-yellowmouth-grouper-complex-rebuilding-plan-catch.

The unique identification number for the environmental review for Amendment 55 is: EAXX-006-48-1SE-1730464344.

FOR FURTHER INFORMATION CONTACT: Nikhil Mehta, telephone: 727-824-5305, or email: nikhil.mehta@noaa.gov.

SUPPLEMENTARY INFORMATION: NMFS and the Council manage the South Atlantic snapper-grouper fishery, which includes scamp, yellowmouth grouper, and the species in the other SASWG complex, under the FMP. The FMP was prepared by the Council, approved by the Secretary of Commerce, and is implemented by NMFS through regulations at 50 CFR part 622 under the authority of the Magnuson-Stevens Fishery Conservation and Management Act (Magnuson-Stevens Act).

Background

The Magnuson-Stevens Act requires that NMFS and regional fishery management councils prevent overfishing and achieve, on a continuing basis, the OY from federally managed fish stocks. These mandates are intended to ensure that fishery resources are managed for the greatest overall benefit to the Nation, particularly with respect to providing food production and recreational opportunities, and protecting marine ecosystems. To further this goal, the Magnuson-Stevens Act requires fishery managers to minimize bycatch and bycatch mortality to the extent practicable.

This action is taken under the statutory authority of the Magnuson-Steven Act section 303(a)(1) as necessary and appropriate for the conservation and management of the fishery to prevent overfishing and to promote the long-term health and stability of the fishery.

Unless otherwise noted, all weights in this proposed rule are described in round weight.

The South Atlantic stock of scamp was assessed for the first time through the Southeast Data, Assessment, and Review (SEDAR) 68 Research Track (RT) assessment in September 2021 (SEDAR 68 RT [2021]). In 2020, the first stage of the SEDAR 68 data process was a Stock Identification (ID) Workshop (SEDAR 68 Stock ID Workshop [2020]), which concluded that scamp are very difficult to distinguish from yellowmouth grouper and thus, much of the assessment data likely represents both species in unknown proportions. The SEDAR 68 Stock ID Workshop (2020) recommended that the stock assessment be conducted on both scamp and yellowmouth grouper jointly, with the two species treated as a single complex because of the known species identification issues. This recommendation resulted in the SEDAR 68 Operational Assessment (OA), which was completed in 2022 (SEDAR 68 OA [2022]). The stock status for scamp and yellowmouth grouper was unknown prior to completion of the two assessments. The Council's Scientific and Statistical Committee (SSC) reviewed the SEDAR 68 OA (2022) at their April 2023 meeting. The assessment included data through 2021 and incorporated the revised landings estimates for recreational catch using the Marine Recreational Information Program (MRIP) Fishing Effort Survey (FES). The results of the SEDAR 68 OA assessment indicated that the scamp and yellowmouth grouper stock is overfished but not undergoing overfishing. The Council's SSC determined that the assessment was conducted using the best scientific information available, and was adequate for determining stock status and supporting total fishing level recommendations. NMFS notified the Council of the overfished status of the scamp and yellowmouth grouper stock via letter dated September 21, 2023.

Following a notification from NMFS to a Council that a stock is overfished, the Magnuson-Stevens Act requires the Council to develop an action to rebuild the affected stock. Therefore, the Council developed Amendment 55 to respond to the results of SEDAR 68 OA (2022).

Amendment 25 to the FMP (Comprehensive Annual Catch Limit Amendment)(77 FR 15916, March 16, 2012) established single species and species complex annual catch limits (ACL) and AMs. Single species ACLs were established for assessed and targeted species, species where ACL=0, and species that could not be placed in a complex based on the criteria below. Scamp was one of the species that met the criteria for a single species ACL. Complex ACLs for groups of species were established for other snapper-grouper species using associations based on one or more of the following: life history, catch statistics from commercial logbook and observer data, recreational headboat logbook and private/charter survey data, and fishery-independent data. Based on the criteria for complex ACLs in Amendment 25, yellowmouth grouper was included in the other SASWG complex along with red hind, rock hind, yellowfin grouper, coney, and graysby. Regulatory Amendment 13 to the FMP updated the commercial and recreational ACLs for select unassessed species including scamp and yellowmouth grouper (78 FR 36113, June 17, 2013). Amendment 29 to the FMP established the current commercial and recreational ACLs for scamp and yellowmouth grouper (80 FR 30947, June 1, 2015).

Management Measures Contained in This Proposed Rule

This proposed rule would remove yellowmouth grouper from the other SASWG complex and establish a new scamp and yellowmouth grouper complex. For the new complex, this proposed rule would establish the total ACL, sector ACLs, recreational bag limits, commercial trip limits, and AMs. This proposed rule would also revise the total ACL and sector ACLs for the species remaining within the other SASWG complex. Additionally, Amendment 55 would establish SDC and a rebuilding plan for the new scamp and yellowmouth grouper complex.

Reorganization of Complexes

Yellowmouth grouper is currently part of the other SASWG complex containing rock hind, red hind, coney, graysby, yellowmouth grouper, and yellowfin grouper. This proposed rule would remove yellowmouth grouper from the other SASWG complex and establish a new complex containing both scamp and yellowmouth grouper. Rock hind, red hind, coney, graysby, and yellowfin grouper would remain in the reorganized other SASWG complex.

Scamp and Yellowmouth Grouper Complex Total ACL

There is currently no acceptable biological catch (ABC) or total ACL for the new scamp and yellowmouth grouper complex. As described in Amendment 55, the ABC would be equal to the total ACL for the complex and an ABC would be established of 67,450 pounds (lb) (30,595 kilograms (kg)), for the 2025 fishing year; 72,200 lb (32,749 kg), for the 2026 fishing year; 75,050 lb (34,042 kg), for the 2027 fishing year; 77,900 lb (35,335 kg), for the 2028 fishing year; and 79,800 lb (36,197 kg), for the 2029 and subsequent fishing years. The ABC values are based on the Council's SSC recommendations based on the latest commercial landings data and inclusive of recreational data from the MRIP-FES and are considered to be consistent with the best scientific information available. The Magnuson-Stevens Act National Standard 1 guidelines specify that Councils can choose to account for management uncertainty by setting the ACL less than the ABC, but also states that ACLs may be set very close to or equal to the ABC. In Amendment 55, the Council decided to set the total ACL equal to the ABC for the new scamp and yellowmouth grouper complex. This level of removals is below the maximum sustainable yield (MSY) and the overfishing limit, and provides greater assurance that overfishing will be prevented, the long-term average biomass will be near or above the biomass that would produce the MSY (BMSY), and the overfished stock complex of scamp and yellowmouth grouper will be rebuilt within the Council's chosen rebuilding timeframe.

Scamp and Yellowmouth Grouper Complex Commercial and Recreational ACLs

Amendment 55 would revise the commercial and recreational sector allocations for scamp and yellowmouth grouper. The current sector ACLs for scamp are based on the commercial and recreational allocations of the total ACL at 69.36 percent and 30.64 percent, respectively, and 1.35 percent and 98.65 percent, respectively, for yellowmouth grouper, that were established through Amendment 25 to the FMP (77 FR 15916, March 16, 2012). The Council used the distribution of landings to determine allocations by sector using a formula of (0.5 * catch history) + (0.5 * current trend) whereby, catch history is equal to the average landings of 1986 through 2008 and current trend is equal to the average landings of 2006 through 2008 to determine the existing allocations.

In Amendment 55, the Council would set the commercial and recreational sector allocations for the scamp and yellowmouth grouper complex based on a unique allocation formula (“split reduction method”) that also accounts for the revisions to the calibrated recreational landings estimates from the MRIP-FES. This method would implement the reductions in total harvest needed for the complex and establish the total ACL and proportionally allocate the total ACL to each sector, based upon the distribution of landings under more recent time periods that the Council determined better reflect the way the fishery is currently operating. The Council chose the 5-year total average of commercial and recreational (FES) landings from 2018 through 2022, and split the reduction needed from the current total ACL equitably among the sectors to achieve the reduction in harvest needed to constrain the harvest to the total ACL. In each subsequent year throughout the rebuilding plan, as the total ACL increases, the ACL poundage increase is allocated equally between both sectors and added to each sector's respective ACL from the previous year. The proposed commercial and recreational allocation percentages and sector ACLs would change each year from 2025 through 2029 and then remain set at the 2029 level. For the commercial sector, allocation percentages would range from 64.90 to 62.59 percent, and for the recreational sector the allocation percentages would range from 35.10 to 37.41 percent through 2029.

The current commercial and recreational ACLs for scamp are 219,375 lb (99,507 kg), and 116,369 lb (52,784 kg), respectively. Yellowmouth grouper is currently part of the other SASWG complex and the commercial and recreational ACLs for the other SASWG complex are 55,542 lb (25,193 kg), and 48,648 lb (22,066 kg), respectively.

In Amendment 55, the Council determined that their preferred sector allocation method more fairly deals with the initial reduction in ACLs for scamp and yellowmouth grouper that would result from the updated catch levels, and reduces the proportion of each sector's allowable catch based on recent landings so that the effect on each sector is more equitable. Similarly, the Council noted that the new allocations would achieve a balance between the needs of both sectors and also increase each sector's allowable catch proportionately on a poundage basis throughout the rebuilding plan. The Council determined that the new sector allocation method distributes both fishing restrictions and recovery benefits for scamp and yellowmouth grouper fairly and equitably among both sectors in the new complex. In addition, this allocation method is also reasonably calculated to promote conservation, since it achieves OY while sector catch limits remain within the boundaries of a total ACL that is based upon an ABC recommendation that would end overfishing and rebuild the stock complex, incorporating the best scientific information available.

When applying the commercial sector allocation percentage as discussed, the proposed commercial ACLs for the scamp and yellowmouth grouper complex would be 43,772 lb (19,855 kg) for the 2025 fishing year; 46,147 lb (20,932 kg) for the 2026 fishing year; 47,572 lb (21,578 kg) for the 2027 fishing year; 48,997 lb (22,225 kg) for the 2028 fishing year; and 49,947 lb (22,656 kg) for the 2029 and subsequent fishing years.

When applying the recreational sector allocation percentage as discussed, the proposed recreational ACLs for the scamp and yellowmouth grouper complex would be 23,678 lb (10,740 kg) for the 2025 fishing year; 26,053 lb (11,817 kg) for the 2026 fishing year; 27,478 lb (12,464 kg) for the 2027 fishing year; 28,903 lb (13,110 kg) for the 2028 fishing year; and 29,853 lb (13,541 kg) for the 2029 and subsequent fishing years.

Recreational Bag Limits for Scamp and Yellowmouth Grouper

Currently, the recreational bag limit is three scamp or three yellowmouth grouper per person per day within the overall three fish grouper and tilefish combined aggregate bag limit. This proposed rule would establish an aggregate complex bag limit of one fish (either scamp or yellowmouth grouper) per person per day within the overall three fish grouper and tilefish combined aggregate bag limit.

Given the reduction in harvest needed to increase the likelihood of rebuilding the scamp and yellowmouth grouper stock, the Council decided to establish the proposed aggregate bag limit for these species that would continue to allow recreational retention while also helping to constrain recreational harvest to the reduced recreational ACL.

Scamp and Yellowmouth Grouper Complex Commercial Trip Limits

Currently, there is no commercial trip limit for scamp and yellowmouth grouper either as a species or as an aggregate of species. This proposed rule would establish an aggregate commercial trip limit for scamp and yellowmouth grouper of 300 lb (136 kg), gutted weight.

Under the proposed trip limit, the Council determined that there could be an increased likelihood of the scamp and yellowmouth grouper portion of the snapper-grouper fishery remaining open and available to fisherman and consumers for as long as possible while reducing harvest to ensure the rebuilding plan is achieved.

Scamp and Yellowmouth Grouper Complex Commercial AMs

There are not currently any commercial AMs for the new scamp and yellowmouth grouper complex. For the new complex, this proposed rule would establish an in-season commercial closure for the remainder of the fishing year, if commercial landings for scamp and yellowmouth grouper, combined, reach or are projected to reach the commercial ACL of the complex. This proposed rule would also establish post-season AMs if the combined commercial landings for scamp and yellowmouth grouper exceed the complex commercial ACL; regardless of stock status or whether the total ACL was exceeded, the commercial ACL of the complex for the following fishing year would be reduced by the amount of the commercial ACL overage in the prior fishing year.

To achieve rebuilding, the Council decided it was important that the commercial AMs be as effective as possible in preventing commercial landings from exceeding the commercial ACL. An in-season closure and a post-season overage adjustment (payback) of the commercial ACL would ensure that commercial landings remain at or below the proposed commercial ACL.

Scamp and Yellowmouth Grouper Complex Recreational AMs

There are not currently any recreational AMs for the new scamp and yellowmouth grouper complex. This proposed rule would establish a post-season recreational AM. If the combined recreational landings for scamp and yellowmouth grouper exceed the recreational ACL of the complex, then the length of the following year's recreational fishing season for the complex would be reduced by the amount necessary to prevent the recreational ACL from being exceeded in the following year, regardless of stock status.

The Council determined that recreational landings estimates are not timely enough for in-season monitoring of the complex. The proposed post-season AM is consistent with what the Council has established for similar snapper-grouper species, in which a season reduction is reliant on a single trigger: that recreational landings exceed the recreational ACL. The Council determined that, when triggered, this post-season AM, would be effective in constraining recreational landings from exceeding the recreational ACL during the following year.

Other SASWG Complex Total ACL and Sector ACLs

The current ABC for the other SASWG complex that contains rock hind, red hind, coney, graysby, yellowmouth grouper, and yellowfin grouper is 104,190 lb (47,260 kg), and was implemented by Amendment 29 to the FMP (80 FR 30947, June 1, 2015). The total ACL was set equal to the ABC and included recreational estimates from MRIP's Coastal Household Telephone Survey (CHTS). The current commercial ACL is 55,542 lb (25,193 kg) and the recreational ACL is 48,648 lb (22,066 kg). Amendment 55 would retain the same ABC for the reorganized other SASWG complex of 104,190 lb (47,260 kg), while not including yellowmouth grouper as part of the value. The proposed total ACL for the reorganized other SASWG complex would be 100,151 lb (45,428 kg), and would retain recreational estimates from MRIP-CHTS in the estimation of the total ACL. The commercial ACL would be 53,380 lb (24,213 kg), and the recreational ACL would be 46,771 lb (21,215 kg). The sector allocations for the other SAWSG complex would not change in Amendment 55 and would remain at 1.35 percent commercial and 98.65 percent recreational.

The species within the other SASWG complex are considered data limited and none of the species in the complex have stock assessments. Following the Council's SSC Unassessed Stocks Workgroup meeting in 2020, an ABC was recommended, however, this catch level was determined by the Council's SSC by using the third highest landings using distinct years depending on the species and Only Reliable Catch methodologies, which are both no longer considered best scientific information available. During the Council SSC's April 2023 meeting, the SSC recommended that the other SASWG complex ACL be modified while still retaining the MRIP-CHTS recreational estimates included in the estimation of the total ACL. The Council's SSC also recommended that the other SASWG complex ABC and ACL be revised in the Council's upcoming Unassessed Species Amendment using MRIP-FES recreational estimates. As the Council's Unassessed Species Amendment is not expected to be completed until 2026 or later, an action to update the other SASWG complex ABC and ACL using MRIP-FES recreational data was not included in Amendment 55. The MRIP-FES based catch estimates for the other SASWG complex species have not yet been through a sufficient scientific review process, which the SSC determined was necessary prior to developing new ABCs and ACLs based on the FES data. Amendment 55 would also not modify the current commercial or recreational AMs for the other SASWG complex (50 CFR 622.193(j)).

Management Measures in Amendment 55 Not Codified by This Proposed Rule

In addition to the measures within this proposed rule, Amendment 55 would establish biological reference points or SDC, and establish a rebuilding plan for the scamp and yellowmouth grouper stock.

Scamp and Yellowmouth Grouper Complex MSY

There is no MSY for the scamp and yellowmouth grouper complex. Amendment 55 would establish the MSY proxy as the yield when fishing at the fishing mortality rate (F) that produces a spawning potential ratio (SPR) of 40 percent for the scamp and yellowmouth grouper complex. MSY is defined as the largest long-term average catch that can be taken from a stock under current conditions. Currently, scamp (individually) and yellowmouth grouper (as part of the other SASWG complex) have MSY proxies of F30%SPR; however SEDAR 68 OA (2022) recommended an MSY proxy for the scamp and yellowmouth grouper stock complex of F40%SPR. As described in Amendment 55, the MSY proxy recommendation is to use F30%SPR for very resilient stocks and use F40%SPR for species with life-history characteristics consistent with scamp and yellowmouth grouper. In March 2023 the Council received a letter from NMFS Southeast Fisheries Science Center (SEFSC) stating that the best scientific information available recommends that F40%SPR is more likely than F30%SPR to achieve a level of biomass that will produce the MSY for the scamp and yellowmouth grouper stock complex, and therefore, the Council decided to establish the MSY proxy of F40%SPR for the scamp and yellowmouth grouper complex.

Scamp and Yellowmouth Grouper Complex Maximum Fishing Mortality Threshold (MFMT)

There is no MFMT for the scamp and yellowmouth grouper complex. Amendment 55 would establish a MFMT equal to F40%SPR for the scamp and yellowmouth grouper complex, with a currently estimated value of 0.28. MFMT is defined as the level of fishing mortality above which overfishing is occurring. Currently, scamp (individually) and yellowmouth grouper (as part of the other SASWG complex) have a MFMT equal to the MSY proxy of F30%SPR; however, SEDAR 68 OA (2022) recommended a MFMT equal to the MSY proxy of the yield at F40%SPR for the scamp and yellowmouth grouper stock complex. The Council determined that the proposed MFMT is based on the best scientific information available and would be consistent with the proposed MSY.

Scamp and Yellowmouth Grouper Complex Minimum Stock Size Threshold (MSST)

There is no MSST for the scamp and yellowmouth grouper complex. Amendment 55 would establish MSST equal to 75 percent of the spawning stock biomass (SSB) at F40%SPR, with a currently estimated value of 801.60 metric tons. MSST is defined as the SSB level below which a stock is declared overfished. Currently, scamp (individually) and yellowmouth grouper (as part of the other SASWG complex) have a MSST equal to the SSB at MSY (SSBMSY) times either one minus the natural mortality (M) or 0.5, whichever is greater. However, SEDAR 68 OA (2022) defined the MSST as 75 percent of SSB at F40%SPR for the scamp and yellowmouth grouper stock complex. The Council determined that the proposed MSST for the scamp and yellowmouth grouper stock complex would be based on the best scientific information available.

Scamp and Yellowmouth Grouper Complex OY

There is no OY for the scamp and yellowmouth grouper complex. Amendment 55 would establish an OY of 95 percent MSY for the scamp and yellowmouth grouper complex. In Amendment 55 the OY would be 353,670 lb (160,422 kg) and the MSY would be 372,280 lb (168,863 kg). OY is the long-term average yield desired from a stock or fishery as reduced from MSY for the fishery based on relevant economic, social, and ecological factors. The Council acknowledged the uncertainty in landings estimates for scamp and yellowmouth grouper but noted that scientific uncertainty had been appropriately accounted for and the 5 percent buffer between OY and the MSY would account for the uncertainty in social, economic, and biological factors.

Rebuilding Plan for the South Atlantic Scamp and Yellowmouth Grouper Stock Complex

Amendment 55 would establish a 10-year rebuilding plan for the complex, which is the longest allowable rebuilding scenario (Tmax) allowed by the Magnuson-Stevens Act (16 U.S.C. 1854(e)(4)(A)). In addition, the Magnuson-Stevens Act National Standard 1 guidelines state that if the stock is projected to rebuild in 10 years or less, then Tmax is 10 years (50 CFR 600.310(j)(3)(i)(B)(1)). The Council's preferred choice of the 10-year timeframe for rebuilding beginning in 2025 is intended to reduce the severity of the proposed management measures and thus result in fewer short-term negative social and economic impacts on fishing communities.

Classification

Pursuant to section 304(b)(1)(A) of the Magnuson-Stevens Act, the NMFS Assistant Administrator has determined that this proposed rule is consistent with Amendment 55, the FMP, other provisions of the Magnuson-Stevens Act, and other applicable law, subject to further consideration after public comment.

This proposed rule has been determined to be not significant for purposes of Executive Order 12866. This proposed rule is not an Executive Order 14192 regulatory action because this action is not significant under Executive Order 12866.

An initial regulatory flexibility analysis (IRFA) was prepared, as required by section 603 of the Regulatory Flexibility Act (RFA; 5 U.S.C. 603). NMFS has determined that this IRFA is consistent with RFA requirements, subject to further consideration after public comment. The IRFA describes the economic impact this proposed rule, if adopted, would have on small entities. A description of the action, why it is being considered, and the legal basis for this action are contained in the SUMMARY and SUPPLEMENTARY INFORMATION sections of the preamble. A summary of the IRFA follows. A copy of the IRFA is available from NMFS (see ADDRESSES).

This proposed rule, if implemented, would: (1) reorganize the other SASWG complex by removing yellowmouth grouper from it and establish a new South Atlantic scamp and yellowmouth grouper complex, (2) establish the total ACL for the scamp and yellowmouth grouper complex, (3) establish sector ACLs for the scamp and yellowmouth grouper complex consistent with the sector allocations in Amendment 55, (4) establish an aggregate scamp and yellowmouth grouper complex recreational bag limit, (5) establish an aggregate commercial trip limit for scamp and yellowmouth grouper, (6) establish commercial AMs for the scamp and yellowmouth grouper complex, (7) establish recreational AMs for the scamp and yellowmouth grouper complex, and (8) revise the total ACL and sector ACLs for the other SASWG complex by removing the portions of the total and sector ACLs that are currently attributed to yellowmouth grouper.

Actions (1) through (3) and (8), above, would apply to all commercial fishing businesses, charter vessel and headboat (for-hire) fishing businesses, and recreational fishers (anglers) that fish for scamp or yellowmouth grouper in Federal waters of the South Atlantic. Actions (4) and (7) would only apply to for-hire fishing businesses and recreational anglers. Finally, actions (5) and (6) would only apply to commercial fishing businesses. None of the proposed changes would directly apply to federally-permitted dealers. Any change in the supply of scamp or yellowmouth grouper available for purchase by dealers as a result of this proposed rule, and associated economic effects, would be an indirect effect of this proposed rule and would, therefore, fall outside the scope of the RFA.

Although many components of this proposed rule would apply to for-hire vessels, they would not be expected to have any direct effects on these entities. For-hire vessels sell fishing services to recreational anglers. The proposed changes to the scamp and yellowmouth grouper catch limits and management measures would not be expected to directly alter the services sold by these vessels. Any change in demand for these fishing services, and associated economic effects, as a result of this proposed rule would be a consequence of a change in anglers' behavior and would therefore be indirect. Based on the historically-minimal level of recreational target effort for scamp and yellowmouth grouper in the South Atlantic and the number of substitute species available, NMFS does not expect any change in for-hire trip demand to result from this proposed rule; however, should it occur, the associated indirect effects would fall outside the scope of the RFA. For-hire captains and crew are currently permitted to retain scamp and yellowmouth grouper under the recreational bag limit; however, they are not permitted to sell these fish. As such, for-hire captains and crew are only affected insofar as they fish themselves as recreational anglers. For purposes of the RFA, recreational anglers are not considered to be entities, so they are also outside the scope of this IRFA. Small entities include small businesses, small organizations, and small governmental jurisdictions (see 5 U.S.C. 601(3) through (6)). Recreational anglers are not businesses, organizations, or governmental jurisdictions. Therefore, only the impacts on commercial vessels are discussed in the IRFA.

As of August 26, 2021, there were 579 valid or renewable South Atlantic snapper-grouper unlimited permits and 112 valid or renewable 225-lb (102.1 kg) trip-limited permits. On average from 2018 through 2022, there were 137 federally-permitted commercial vessels with reported landings of scamp or yellowmouth grouper in the South Atlantic. Their average annual vessel-level gross revenue from all species for 2018 through 2022 was $82,458 (2022 dollars), and scamp and yellowmouth grouper accounted for approximately 4.1 percent of this revenue. For commercial vessels that harvest scamp or yellowmouth grouper in the South Atlantic, NMFS estimates that economic profits are −$742 (2022 dollars) or −0.9 percent of annual gross revenue, on average. The negative value for economic profits presented here does not necessarily mean the average business is operating at a loss in an accounting sense, but rather, the owner is not being fully compensated for their time or asset depreciation when compared to the next best use of their labor and capital resources. The maximum annual revenue from all species reported by a single vessel that harvested scamp and yellowmouth grouper from 2018 through 2022 was $441,332 (2022 dollars).

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. All of the commercial fishing businesses directly regulated by this proposed rule are believed to be small entities based on the NMFS size standard. No other small entities that would be directly affected by this proposed rule have been identified.

This proposed rule would reorganize the other SASWG complex, removing yellowmouth grouper from it, and establish a new South Atlantic scamp and yellowmouth grouper complex. These proposed changes would not directly constrain harvest or fishing effort and are, therefore, outside the scope of this IRFA.

This proposed rule would also establish a total ACL for the new scamp and yellowmouth grouper complex, based on the most recent recommendations from the Council's SSC in response to the SEDAR 68 OA in 2022 for scamp and yellowmouth grouper. These catch limits would reflect a shift in recreational reporting units from the MRIP-CHTS to the MRIP-FES. The total ACL would be set equal to the ABC in each year of the rebuilding plan according to the values provided in table 1. The 2029 values would remain in effect unless changed by a future Council action. Because the scamp and yellowmouth grouper complex has not yet been established and there are no sector allocations for the complex, a hypothetical status quo allocation of 64.90 percent, based on the average landings distribution by sector from 2018 through 2022, is used in Amendment 55 to calculate a de facto commercial ACL. This allows for a rough assessment of how commercial landings for scamp and yellowmouth grouper may change under the proposed scamp and yellowmouth grouper complex total ACL, absent the establishment of sector allocations or ACLs. Relative to the 5-year average (2018 through 2022) historical landings of 75,540 lb (34,264 kg) and applying a hypothetical sector allocation of 64.90 percent, the proposed scamp and yellowmouth grouper total ACL would result in an expected decrease in commercial landings during the rebuilding timeframe, as shown in table 1. As discussed below, Amendment 55 and this proposed rule would also establish commercial and recreational allocation percentages and sector ACLs, and therefore, economic effects to small entities are quantified as part of that discussion.

Table 1—Proposed Total ACLs, With Commercial ACLs Based on a Hypothetical Allocation of 64.90 Percent, as Derived From the Average Scamp and Yellowmouth Grouper Landings Distribution by Sector From 2018 Through 2022
Year | Total ACL in lb (kg) | Commercial ACL in lb (kg) | Difference between proposed commercial ACL and 5 year average landings (2018-2022) in lb (kg)
2025 | 67,450 (30,595) | 43,772 (19,855) | −31,768 (−14,410)
2026 | 72,200 (32,749) | 46,855 (21,253) | −28,685 (−13,011)
2027 | 75,050 (34,042) | 48,704 (22,092) | −26,836 (−12,173)
2028 | 77,900 (35,335) | 50,554 (22,931) | −24,986 (−11,333)
2029+ | 79,800 (36,197) | 51,787 (23,490) | −23,753 (−10,774)

Amendment 55 and this proposed rule would set scamp and yellowmouth grouper sector allocations and sector ACLs in 2025 proportional to each sector's share of total average landings (commercial and recreational combined) from 2018 through 2022 (table 2). In subsequent years, as the total ACL increases, the total ACL poundage increase would be split equally between both sectors and added to each sector's ACL from the previous year. This, in effect, would gradually shift the allocation percentages over time. The 2029 values would remain in effect unless changed by future Council action. As shown in table 2, the combined economic effects of the proposed ACLs, in conjunction with the proposed revisions to the commercial allocation, are estimated to be negative, but modestly improving, from 2025 through 2029. In 2029 and in subsequent years, ex-vessel revenues are estimated to be static. This analysis utilizes a round weight to gutted weight conversion factor of 1.18 and an average ex-vessel price of $7.44 per lb, gutted weight (2022 dollars). This analysis also assumes the full commercial ACL would be harvested each year and that value is compared to average annual commercial landings from 2018 through 2022. The average per vessel estimates are calculated by dividing the total estimated change in ex-vessel revenue by the average number of vessels with reported landings of scamp and yellowmouth grouper from 2018 through 2022. On average from 2025 through 2029, the per vessel loss in ex-vessel revenue would be $1,300 per year (less than 2 percent of average annual per vessel revenue). It is noted that scamp and yellowmouth grouper make up a relatively small portion of annual gross revenue for vessels that land the species (4.1 percent), and on trips where these species are harvested, they comprise less than 11 percent of trip revenue, on average (2018 to 2022). Additionally, anecdotal information suggests these species are not typically targeted but are often caught while fishing for other snapper-grouper species. Therefore, NMFS assumes scamp and yellowmouth grouper are harvested as secondary, if not incidental, species on trips targeting other species and that this proposed rule would not materially affect fishing behavior, effort, or operating costs. As a result, the estimated reductions in annual ex-vessel revenue shown in table 2 are assumed to be straight losses in per vessel annual economic profits ranging from $1,178 to $1,462 (2022 dollars). These decreases would exacerbate the already negative average economic profits of affected small entities. Individual fishing businesses, however, may experience varying levels of economic effects, depending on their overall fishing practices, operating characteristics, and profit maximization strategies.

Table 2—Proposed Commercial Allocations and Commercial ACLs With Changes in Expected Landings and Ex-Vessel Revenue Relative to the Status Quo
[Measured by average landings and ex-vessel revenue from 2018-2022]
Year | Commercial allocation | Commercial ACL in lb (kg) | Change in landings in lb (kg) gutted weight relative to no action (status quo) | Change in ex-vessel revenue relative to no action (status quo) (2022 dollars) | Average per vessel change in ex-vessel revenue (2022 dollars)
2025 | 0.6490 | 43,772 (19,855) | −26,922 (−12,212) | −$200,300 | −$1,462
2026 | 0.6392 | 46,147 (20,932) | −24,909 (−11,299) | −185,325 | −1,353
2027 | 0.6339 | 47,572 (21,578) | −23,702 (−10,751) | −176,341 | −1,287
2028 | 0.6290 | 48,997 (22,225) | −22,494 (−10,203) | −167,356 | −1,222
2029+ | 0.6259 | 49,947 (22,656) | −21,689 (−9,838) | −161,366 | −1,178

In addition to the changes mentioned above, this proposed rule would establish an aggregate commercial trip limit of 300 lb (136 kg), gutted weight, for scamp and yellowmouth grouper. Under status quo management, where yellowmouth grouper is included in the other SASWG complex and scamp is managed individually, implementation of the proposed commercial trip limit would be expected to reduce commercial scamp and yellowmouth grouper landings by 7.96 percent or 5,096 lb (2,312 kg), gutted weight, per year. This reduction in landings would represent an estimated annual loss of $37,912 (2022 dollars) in ex-vessel revenue and economic profits to the commercial sector. However, the proposed trip limit would be established in conjunction with the proposed scamp and yellowmouth grouper complex commercial ACLs (table 2) and NMFS expects the commercial sector to fully harvest its ACL during each year of the rebuilding timeframe, even with the proposed 300 lb (136 kg), gutted weight, commercial trip limit in place. Therefore, these economic effects would be subsumed under those described for the proposed allocations and commercial ACLs (table 2). In general, reducing the commercial trip limit, even if aggregate landings and ex-vessel revenue remain the same, may reduce the economic efficiency of individual trips, which may have negative consequences on economic profits. These effects cannot be quantified with existing data.

This proposed rule would also establish commercial AMs for the scamp and yellowmouth grouper complex, such that if commercial landings reach or are projected to reach the commercial ACL, commercial harvest of scamp and yellowmouth grouper would be closed for the remainder of the fishing year. In addition, under the proposed commercial AMs, if commercial landings of the complex exceed the commercial ACL of the complex, regardless of stock status or whether the total ACL was exceeded, the commercial ACL for the following fishing year would be reduced by the amount of the commercial ACL overage in the prior fishing year. These proposed AMs would help ensure that commercial landings are constrained to the proposed commercial ACLs. In the event of an overage of the commercial ACL of the complex, commercial fishing businesses would be expected to experience reduced landings, ex-vessel revenue, and economic profits in the following year due to a reduced commercial ACL; however, this would be at least partially offset by the additional landings that occurred over and above the commercial ACL in the year of the overage. These effects cannot be quantified with available data.

Finally, this proposed rule would revise the total ACL and sector ACLs for the other SASWG complex by subtracting the 4,039 lb (1,832 kg) from the total ACL that is currently attributed to yellowmouth grouper. The new total ACL would be 100,151 lb (45,428 kg). Applying the current sector allocations for the other SASWG complex of 53.3 percent commercial and 46.7 percent recreational, the new commercial ACL for that complex would be 53,380 lb (24,213 kg) and the new recreational ACL would be 46,771 lb (21,215 kg). Because the reductions to the total and sector ACLs for the other SASWG complex would be equivalent to only what is currently attributed to yellowmouth grouper, no additional economic effects relative to those already described above for the proposed new scamp and yellowmouth grouper complex would be expected.

Three Alternatives to the Proposed Action To Establish an ABC and ACL for the New Complex

Three alternatives were considered for the proposed action to establish an ABC and total ACL for the new scamp and yellowmouth grouper complex. The first alternative, the no action alternative, would not establish an ABC or total ACL, and therefore would not be expected to constrain harvest or result in direct economic effects when compared to recent 5-year average landings and the existing separate ACLs for the two grouper species. This alternative was not selected by the Council because it would be inconsistent with the Council SSC's latest catch limit recommendations for scamp and yellowmouth grouper, the requirements of the Magnuson-Stevens Act for the proposed new scamp and yellowmouth grouper complex, and the transition to the MRIP-FES.

The second alternative to the proposed action to establish an ABC and total ACL for the scamp and yellowmouth grouper complex would adopt the revised ABCs recommended by the Council's SSC; however, it would set the total ACL equal to 95 percent of the ABC. The change in weight (lb/kg) between the total ACLs under this alternative and the total ACL in this proposed rule, along with the expected change in ex-vessel revenue are provided in table 3. Relative to the proposed total ACLs and assuming a hypothetical commercial allocation of 64.90 percent (based on the distribution of historical landings by sector from 2018 through 2022), this alternative would reduce the de facto commercial ACL by a range of 2,188 lb (992 kg) in 2025 to 2,589 lb (1,174 kg) in 2029 and subsequent years (table 3). Assuming the commercial ACL would be harvested in full under either the proposed action or the second alternative to the proposed total ACL action, this translates to an additional loss in ex-vessel revenue and economic profits of $13,797 (2022 dollars) to $16,326 or $15,237 on average (2025 through 2029). The Council did not select the second alternative because they determined (1) that it would be less effective at achieving the objectives of the FMP; and (2) that the current ACL monitoring mechanisms in the South Atlantic, coupled with the existing and proposed management measures, would be sufficient to prevent overages of the total ACL, and thus would not require a buffer between the ABC and total ACL.

Table 3—Differences in Total ACL, Commercial ACL, and Ex-Vessel Revenue Under the Second Alternative to the Proposed Action To Establish an ABC and Total ACL for the Scamp and Yellowmouth Grouper Complex, Relative to the Proposed Action
Year | Proposed total ACL in lb (kg) | Total ACL in lb (kg) under Alternative 2 | Difference in total ACL in lb (kg) | Difference in commercial ACL in lb (kg) using allocation of 64.90 percent | Change in potential ex-vessel revenue (2022 dollars)
2025 | 67,450 (30,595) | 64,078 (29,065) | −3,372 (−1,530) | −2,188 (−992) | −$13,797
2026 | 72,200 (32,749) | 68,590 (31,112) | −3,610 (−1,637) | −2,343 (−1,063) | −14,771
2027 | 75,050 (34,042) | 71,298 (32,340) | −3,752 (−1,702) | −2,435 (−1,104) | −15,352
2028 | 77,900 (35,335) | 74,005 (33,568) | −3,895 (−1,767) | −2,528 (−1,147) | −15,937
2029+ | 79,800 (36,197) | 75,810 (34,387) | −3,990 (−1,810) | −2,589 (−1,174) | −16,326

The third alternative to the proposed action to establish an ABC and total ACL for the scamp and yellowmouth grouper complex would adopt the revised ABCs recommended by the Council's SSC; however, it would set the total ACL equal to 90 percent of the ABC. The change in weight (lb/kg) between the total ACLs under this alternative and the total ACL in this proposed rule, along with the expected change in ex-vessel revenue are provided in table 4. Relative to the proposed total ACLs and assuming a hypothetical commercial allocation of 64.90 percent (based on the distribution of historical landings by sector from 2018 through 2022), this third alternative would reduce the de facto commercial ACL by a range of 4,377 lb (1,985 kg) in 2025 to 5,179 lb (2,349 kg) in 2029 and subsequent years (table 4). Assuming the commercial ACL would be harvested in full under either the proposed action or the third alternative to the proposed total ACL action, this translates to an additional loss in ex-vessel revenue and economic profits, relative to the proposed action, of $27,599 (2022 dollars) to $32,652 or $30,475 on average (2025 through 2029). The Council did not select the third alternative because they determined (and NMFS agrees) (1) that it would be less effective at achieving the objectives of the FMP; and (2) that the current ACL monitoring mechanisms in the South Atlantic, coupled with the existing and proposed management measures, would be sufficient to prevent overages of the total ACL; therefore, a buffer between the ABC and the total ACL as provided in alternative 3 would not be required.

Table 4—Differences in Total ACL, Commercial ACL, and Ex-Vessel Revenue Under the Third Alternative to the Proposed Action To Establish an ABC and Total ACL for the Scamp and Yellowmouth Grouper Complex, Relative to the Proposed Action
Year | Proposed total ACL in lb (kg) | Total ACL in lb (kg) under Alternative 3 | Difference in total ACL in lb (kg) | Difference in commercial ACL in lb (kg) using allocation of 64.90 percent | Change in potential ex-vessel revenue (2022 dollars)
2025 | 67,450 (30,595) | 60,705 (27,535) | −6,745 (−3,059) | −4,377 (−1,985) | −$27,599
2026 | 72,200 (32,749) | 64,980 (29,474) | −7,220 (−3,275) | −4,685 (−2,125) | −29,542
2027 | 75,050 (34,042) | 67,545 (30,638) | −7,505 (−3,404) | −4,870 (−2,209) | −30,708
2028 | 77,900 (35,335) | 70,110 (31,801) | −7,790 (−3,533) | −5,055 (−2,293) | −31,874
2029+ | 79,800 (36,197) | 71,820 (32,577) | −7,980 (−3,620) | −5,179 (−2,349) | −32,652

Two Alternatives to the Proposed Action To Establish Sector Allocations and Sector ACLS for the New Complex

Two alternatives were considered for the proposed action to establish scamp and yellowmouth grouper sector allocations and sector ACLs. The first alternative, the no action alternative, would not set sector allocations, and thus commercial and recreational landings combined would be constrained by the total ACL, as opposed to having individual commercial and recreational ACLs. As a result, it is assumed that the proportion of the total ACL harvested by each sector would remain similar to the recent 5-year average of landings (2018 through 2022), with the commercial sector accounting for 64.90 percent of the total ACL. Relative to the proposed allocation, this alternative, when applied to the proposed total ACLs in table 1, would result in an increase in ex-vessel revenue and economic profits that ranges from $0 to $11,599 (table 5) or $6,602 on average (2025 through 2029). The Council did not select the first alternative to the proposed sector ACLs because this alternative would not establish sector allocations and, therefore, would not be as effective at achieving the objectives of the FMP, and would not align with the purpose of this proposed rule and Amendment 55.

Table 5—Comparison of Commercial Allocation, Commercial ACL, and Ex-Vessel Revenue Under the First Alternative to the Proposed Allocation, Relative to the Proposed Allocation
Year | Proposed commercial allocation | Alternative 1 to proposed allocation | Commercial ACL in lb (kg) under Alternative 1 allocation | Change in commercial ACL in lb (kg) under Alternative 1 allocation | Change in potential ex-vessel revenue (2022 dollars)
2025 | 0.6490 | 0.6490 | 43,772 (19,855) | 0 (0) | $0
2026 | 0.6392 | 0.6490 | 46,855 (21,253) | 708 (321) | 4,461
2027 | 0.6339 | 0.6490 | 48,704 (22,092) | 1,132 (513) | 7,138
2028 | 0.6290 | 0.6490 | 50,554 (22,931) | 1,557 (706) | 9,814
2029+ | 0.6259 | 0.6490 | 51,787 (23,490) | 1,840 (835) | 11,599

The second alternative to the proposed allocation would set scamp and yellowmouth grouper sector allocations and sector ACLs in 2025 proportional to each sector's share of total average landings (commercial and recreational combined) from 2013 through 2022 (table 6). In subsequent years, as the total ACL increases, the total ACL poundage increase would be split equally between both sectors and added to each sector's ACL from the previous year. This, in effect, would gradually shift the allocation percentages over time. The 2029 values would remain in effect unless changed by future Council action. Relative to the proposed allocation, this alternative, when applied to the proposed total ACLs in table 1, would result in an average annual decrease in ex-vessel revenue and economic profits of approximately $6,379 (table 6). The Council did not select this second alternative to the proposed sector ACLs because they determined the 10-year average used to calculate the initial allocation in 2025 was less representative of the current fishery and, therefore, would be less effective at achieving the objectives of the FMP.

Table 6—Comparison of Commercial Allocation, Commercial ACL, and Ex-Vessel Revenue Under the Second Alternative to the Proposed Allocation, Relative to the Proposed Allocation
Year | Proposed commercial allocation | Alternative 2 to proposed allocation | Commercial ACL in lb (kg) under Alternative 2 allocation | Change in commercial ACL in lb (kg) under Alternative 2 allocation | Change in potential ex-vessel revenue (2022 dollars)
2025 | 0.6490 | 0.6340 | 42,763 (19,397) | −1,009 (−458) | −$6,360
2026 | 0.6392 | 0.6251 | 45,132 (20,472) | −1,015 (−460) | −$6,398
2027 | 0.6339 | 0.6204 | 46,561 (21,120) | −1,011 (−459) | −$6,374
2028 | 0.6290 | 0.6160 | 47,986 (21,766) | −1,011 (−459) | −$6,372
2029+ | 0.6259 | 0.6132 | 48,933 (22,196) | −1,014 (−460) | −$6,391

Four Alternatives to the Proposed Action To Establish a Commercial Trip Limit

Four alternatives were considered for the proposed action to establish a commercial trip limit of 300 lb (136 kg), gutted weight. The first alternative, the no action alternative, would not establish a commercial trip limit. Therefore, it would not be expected to change fishing practices or commercial harvests of scamp and yellowmouth grouper, nor would it be expected to result in direct economic effects. This alternative was not chosen by the Council because it would be less effective at constraining harvest to the proposed commercial catch levels and would lead to a shorter commercial fishing season.

The second alternative to the proposed commercial trip limit of 300 lb (136 kg), gutted weight, would set the commercial trip limit at 200 lb (91 kg), gutted weight. Under status quo management, under which yellowmouth grouper is included in the other SASWG complex and scamp is managed individually, implementation of the proposed commercial trip limit would be expected to reduce commercial scamp and yellowmouth grouper landings by 16.52 percent or 10,576 lb (4,797 kg), gutted weight, per year. Relative to the proposed commercial trip limit, this second alternative would result in an estimated annual reduction in ex-vessel revenue and economic profit that is $40,770 (2022 dollars) greater. However, this second alternative to the proposed commercial trip limit would be established in conjunction with the proposed scamp and yellowmouth grouper complex commercial ACLs (table 2) and NMFS expects the commercial sector would fully harvest its ACL each year of the rebuilding timeframe, even with a 200 lb (91 kg), gutted weight, commercial trip limit in place. Therefore, these economic effects would be subsumed under those described for the proposed allocations and commercial ACLs (table 2). In general, a lower commercial trip limit may reduce economic efficiency on commercial trips, which may lead to a reduction in economic profits. These effects cannot be quantified with existing data. This alternative was not chosen by the Council because the lower trip limit would make trips to catch scamp and yellowmouth grouper too costly and inefficient.

The third alternative to the proposed commercial trip limit of 300 lb (136 kg), gutted weight, would set the commercial trip limit at 400 lb (181 kg), gutted weight. Under status quo management, implementation of this third alternative to the proposed commercial trip limit would be expected to reduce commercial scamp and yellowmouth grouper landings by 4.35 percent or 2,785 lb (1,263 kg), gutted weight, per year. Relative to the proposed commercial trip limit, this alternative would result in an estimated annual reduction in ex-vessel revenue and economic profit that is $17,194 (2022 dollars) smaller. However, the commercial trip limit would be established in conjunction with the proposed commercial ACLs (table 2) and NMFS expects the commercial sector would fully harvest its ACL each year of the rebuilding timeframe with a 400 lb (181 kg), gutted weight, commercial trip limit in place. Therefore, these economic effects would be subsumed under those described for the proposed allocations and commercial ACLs (table 2). In general, a less restrictive commercial trip limit may increase economic efficiency on commercial trips, which may lead to an increase in economic profits. These effects cannot be quantified with existing data. This alternative was not chosen by the Council because it would be less effective at constraining harvest to the proposed commercial catch levels and would lead to a shorter commercial fishing season.

The fourth alternative to the proposed commercial trip limit of 300 lb (136 kg), gutted weight, would set the commercial trip limit at 500 lb (227 kg), gutted weight. Under status quo management, implementation of this fourth alternative to the proposed commercial trip limit would be expected to reduce commercial scamp and yellowmouth grouper landings by 2.46 percent or 1,575 lb (714 kg), gutted weight, per year. Relative to the proposed commercial trip limit, this alternative would result in an estimated annual reduction in ex-vessel revenue and economic profit that is $26,196 (2022 dollars) smaller. However, the commercial trip limit would be established in conjunction with the proposed commercial ACLs (table 2) and NMFS expects the commercial sector would fully harvest its ACL each year of the rebuilding timeframe with a 500 lb (227 kg), gutted weight, commercial trip limit in place. Therefore, these economic effects would be subsumed under those described for the proposed allocations and commercial ACLs (table 2). Again, a less restrictive commercial trip limit may increase economic efficiency on commercial trips, which may lead to an increase in economic profits. These effects cannot be quantified with existing data. This alternative was not chosen by the Council because it would be less effective at constraining harvest to the proposed commercial catch levels and would lead to a shorter commercial fishing season.

Two Alternatives to the Proposed Action To Establish Commercial AMs for the New Complex

Two alternatives were considered for the proposed action to establish commercial AMs for the scamp and yellowmouth grouper complex. The first alternative, the no action alternative, would not establish commercial AMs and therefore would have no direct economic effects on any small entities. This alternative was not chosen by the Council because the Magnuson-Stevens Act requires AMs to be implemented for stocks.

The second alternative to the proposed commercial AMs action would establish commercial AMs for the scamp and yellowmouth grouper complex, such that, if commercial landings reach or are projected to reach the commercial ACL, commercial harvest of scamp and yellowmouth grouper would be closed for the remainder of the fishing year. Under this alternative, if commercial landings exceed the commercial ACL, the total ACL is exceeded, and the scamp and yellowmouth grouper complex is overfished, the commercial ACL for the following fishing year would be reduced by the amount of the commercial ACL overage in the prior fishing year. This second alternative would be less likely to result in an overage adjustment (payback) of commercial ACL overages than the proposed commercial AMs because, under this second alternative, the overage adjustments wouldn't be triggered unless additional conditions are met. As a result, the second alternative would be less likely to negatively impact commercial fishing businesses through reduced commercial ACLs in years following commercial ACL overages. This alternative was not chosen by the Council because it would be less effective at constraining harvest to the proposed commercial catch levels, thereby reducing protection to the scamp and yellowmouth grouper stock.

One Alternative to the Proposed Action To Revise the Total and Sector ACLs for the Other SASWG Complex

Finally, one alternative was considered for the proposed action to revise the total ACL and sector ACL for the other SASWG complex. This alternative, the no action alternative, would not adjust the other SASWG complex total and sector ACL to account for the removal of yellowmouth grouper from the complex. The total ACL for this complex would remain at 104,190 lb (47,260 kg) and the commercial ACL would remain at 55,542 lb (25,193 kg). The Council did not select this alternative because it would retain catch levels that are inclusive of yellowmouth grouper and would therefore be inconsistent with the proposed new scamp and yellowmouth grouper complex and associated catch levels. Under this alternative, catch levels for the remaining species in the other SASWG complex would be too high and would not provide adequate protection to those stocks, and therefore would be inconsistent with the Magnuson-Stevens Act and the FMP.

No duplicative, overlapping, or conflicting Federal rules have been identified. In addition, no new reporting, record-keeping, or other compliance requirements are introduced by this proposed rule. This proposed rule contains no information collection requirements under the Paperwork Reduction Act of 1995.

List of Subjects in 50 CFR Part 622

Commercial, Fisheries, Fishing, Recreational, Scamp, Snapper-grouper, South Atlantic, Yellowmouth grouper.

Dated: August 14, 2025.
Samuel D. Rauch III,
Deputy Assistant Administrator for Regulatory Programs, National Marine Fisheries Service.

For the reasons set out in the preamble, NMFS proposes to amend 50 CFR part 622 as follows:

PART 622—FISHERIES OF THE CARIBBEAN, GULF OF MEXICO, AND SOUTH ATLANTIC

1. The authority citation for part 622 continues to read as follows:

Authority: 16 U.S.C. 1801 et seq.

2. In § 622.187, revise paragraphs (b)(2)(iii), (iv), and (v), and add paragraph (b)(2)(vi) to read as follows:

§ 622.187 Bag and possession limits.

* * * * *

(b) * * *

(2) * * *

(iii) No more than one fish may be a golden tilefish; (iv) No more than two fish may be blueline tilefish. However, no blueline tilefish may be retained by the captain or crew of a vessel operating as a charter vessel or headboat. The bag limit for such captain and crew is zero; and

(v) No more than one fish may be a scamp or a yellowmouth grouper, combined.

(vi) No goliath grouper or Nassau grouper may be retained.

* * * * *

3. In § 622.191, add paragraph (a)(16) to read as follows:

§ 622.191 Commercial trip limits.

* * * * *

(a) * * *

(16) Scamp and yellowmouth grouper, combined. Until the applicable commercial ACL specified in § 622.193(i)(1)(i) is reached, 300 lb (136 kg), gutted weight. See § 622.193(i)(1)(i) for the limitations regarding scamp and yellowmouth grouper after the applicable commercial ACL is reached.

* * * * *

4. In § 622.193, revise paragraphs (i) and (j) to read as follows:

§ 622.193 Annual catch limits (ACLs) and accountability measures (AMs).

* * * * *

(i) Scamp and yellowmouth grouper, combined—(1) Commercial sector. (i) If commercial landings for scamp and yellowmouth grouper, combined, as estimated by the SRD, reach or are projected to reach the applicable commercial ACL, the AA will file a notification with the Office of the Federal Register to close the commercial sector for the remainder of the fishing year. On and after the effective date of such a notification, all sale or purchase of scamp and yellowmouth grouper is prohibited and harvest or possession of scamp and yellowmouth grouper in or from the South Atlantic EEZ is limited to the bag and possession limits. These bag and possession limits apply in the South Atlantic on board a vessel for which a valid Federal commercial or charter vessel/headboat permit for South Atlantic snapper-grouper has been issued, without regard to where such species were harvested, i.e., in state or Federal waters. The commercial ACL for scamp and yellowmouth grouper, combined, is 43,772 lb (19,855 kg), round weight, for the 2025 fishing year; 46,147 lb (20,932 kg), round weight, for the 2026 fishing year; 47,572 lb (21,578 kg), round weight, for the 2027 fishing year; 48,997 lb (22,225 kg), round weight, for the 2028 fishing year; and 49,947 lb (22,656 kg), round weight, for the 2029 and subsequent fishing years.

(ii) If commercial landings for scamp and yellowmouth grouper, combined, as estimated by the SRD, exceed the applicable commercial ACL specified in paragraph (i)(1)(i) of this section, and regardless of the stock status of either species and whether the total ACL specified in paragraph (i)(1)(iii) of this section is exceeded, then during the following fishing year, the AA will file a notification with the Office of the Federal Register to reduce the applicable commercial ACL specified in paragraph (i)(1)(i) of this section by the amount of the commercial ACL overage.

(2) Recreational sector. If recreational landings for scamp and yellowmouth grouper, combined, as estimated by the SRD, exceed the applicable recreational ACL, and regardless of the stock status of either species, then in the following fishing year, the AA will file a notification with the Office of the Federal Register to reduce the length of the recreational fishing season to ensure that the recreational ACL is not exceeded. On and after the effective date of such a notification, the bag and possession limits for scamp and yellowmouth grouper in or from the South Atlantic EEZ are zero. The recreational ACL for scamp and yellowmouth grouper, combined, is 23,678 lb (10,740 kg), round weight, for the 2025 fishing year; 26,053 lb (11,817 kg), round weight, for the 2026 fishing year; 27,478 lb (12,464 kg), round weight, for the 2027 fishing year; 28,903 lb (13,110 kg), round weight, for the 2028 fishing year; and 29,853 lb (13,541 kg), round weight, for the 2029 and subsequent fishing years.

(3) Total ACL. The total ACL for scamp and yellowmouth grouper, combined, is 67,450 lb (30,595 kg), round weight, for the 2025 fishing year; 72,200 lb (32,749 kg), round weight, for the 2026 fishing year; 75,050 lb (34,042 kg), round weight, for the 2027 fishing year; 77,900 lb (35,335 kg), round weight, for the 2028 fishing year; 79,800 lb (36,197 kg), round weight, for the 2029 and subsequent fishing years.

(j) Other SASWG complex (including red hind, rock hind, yellowfin grouper, coney, and graysby)—(1) Commercial sector. (i) If commercial landings for other SASWG combined, as estimated by the SRD, reach or are projected to reach the commercial ACL of 53,380 lb (24,213 kg), round weight, the AA will file a notification with the Office of the Federal Register to close the commercial sector for this complex for the remainder of the fishing year. On and after the effective date of such a notification, all sale or purchase of red hind, rock hind, yellowfin grouper, coney, and graysby is prohibited, and harvest or possession of any of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for other SASWG combined, as estimated by the SRD, exceed the commercial ACL, and the combined commercial and recreational ACL of 100,151 lb (45,428 kg), round weight, is exceeded, and at least one of the species in other SASWG combined is overfished based on the most recent status of U.S. Fisheries Report to Congress, the AA will file a notification with the Office of the Federal Register to reduce the commercial ACL for that following fishing year by the amount of the commercial ACL overage in the prior fishing year.

(2) Recreational sector. (i) If recreational landings for other SASWG combined, as estimated by the SRD, reach or are projected to reach the recreational ACL of 46,771 lb (21,215 kg), round weight, the AA will file a notification with the Office of the Federal Register to close the recreational sector for the remainder of the fishing year regardless if any stock in other SASWG combined is overfished, unless NMFS determines that no closure is necessary based on the best scientific information available. On and after the effective date of such a notification, the bag and possession limits for any species in the other SASWG combined in or from the South Atlantic EEZ are zero.

(ii) If recreational landings for other SASWG combined, as estimated by the SRD, exceed the recreational ACL, then during the following fishing year recreational landings will be monitored for a persistence in increased landings, and if necessary, the AA will file a notification with the Office of the Federal Register to reduce the length of the recreational fishing season and the recreational ACL by the amount of the recreational ACL overage, if at least one of the species in other SASWG combined is overfished based on the most recent Status of U.S. Fisheries Report to Congress, and if the combined commercial and recreational ACL of 100,151 lb (45,428 kg), round weight, is exceeded during the same fishing year. NMFS will use the best scientific information available to determine if reducing the length of the recreational fishing season and recreational ACL is necessary. When the recreational sector is closed as a result of NMFS reducing the length of the recreational fishing season and ACL, the bag and possession limits for any species in the other SASWG combined in or from the South Atlantic EEZ are zero.

* * * * *

[FR Doc. 2025-16246 Filed 8-22-25; 8:45 am]

BILLING CODE 3510-22-P